DEPARTMENT OF JUSTICE

Antitrust Division

Notice Pursuant to the National Cooperative Research and Production Act of 1993—Technical Innovations Enabling a New Direct Wind Turbine Generator, ATP Award No. 70NANB7H7055

Notice is hereby given that, on October 19, 2007, pursuant to Section 6(a) of the National Cooperative Research and Production Act of 1993, 15 U.S.C. 4301 et. seq. (“the Act”), Technical Innovations Enabling a New Direct Drive Wind Turbine Generator, ATP Award No. 70NANB7H7055 has filed written notifications simultaneously with the Attorney General and the Federal Trade Commission disclosing (1) the identities of the parties (2) the nature and objectives of the venture. The notifications were filed for the purpose of invoking the Act's provisions limiting the recovery of antitrust plaintiffs to actual damages under specified circumstances.

Pursuant to Section 6(b) of the Act, the identities of the parties are American Superconductor Corporation, Westborough, MA and TECO-Westinghouse Motor Company, Round Rock, TX. The nature and the objectives of the venture are: to open up the possibility of large direct-drive generators and, in particular, the realization of very large offshore wind turbines.

The activities of this venture project will be partially funded by an award from the Advanced Technology Program, National Institute of Standards and Technology, U.S. Department of Commerce.

Patricia A. Brink,
Deputy Director of Operations, Antitrust Division.

[FR Doc. 08-754 Filed 2-19-08; 8:45 am]

BILLING CODE 4410-11-M